ENVIRONMENTAL PROTECTION AGENCY

[EPA-HQ-OPP-2009-1017; FRL-9916-41]

Product Cancellation Order for Certain Pesticide Registrations; Correction

AGENCY: Environmental Protection Agency (EPA).

ACTION: Notice; correction.

SUMMARY: EPA issued a notice in the Federal Register of August 13, 2014, and June 4, 2014, concerning receipt of requests to voluntarily cancel certain pesticide registrations and its follow-up cancellation order, respectively. In both notices, EPA inadvertently listed the incorrect existing stocks language for products Ronilan Manufacturer's Concentrate (EPA Reg. No. 007969-00057), Ronilan EG Fungicide (EPA Reg. No. 007969-00085), and Curalan EG Fungicide (EPA Reg. No. 007969-00224). This document corrects the existing stocks language listed in both the August 13, 2014, and June 4, 2014, Federal Register notices.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

The Agency included in the Federal Register notices of August 13, 2014 (79 FR 47454) (FRL 9914-00) and June 4, 2014 (79 FR 32288) (FRL 9910-97) a list of those who may be potentially affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Docs. 2014-18961 and 2014-12922 published in the Federal Register of August 13, 2014 (79 FR 47454) (FRL 9914-00) and June 4, 2014 (79 FR 32288) (FRL 9910-97), respectively, are corrected as follows:

1. On pages 47456 and 32290, respectively, second column, under the heading B. For Products (007969-00057, 007969-00085, and 007969-00224), paragraph 1, sentences 3 and 4, correct “Thereafter, registrants, and persons other than registrants, are prohibited from selling or distributing existing stocks of products containing vinclozolin identified in Table 1 of Unit II., except for export consistent with FIFRA section 17 or for proper disposal. Existing stocks of products containing vinclozolin already in the hands of users can be used legally until such stocks are exhausted, provided that the use is consistent with the terms of the previously approved labeling on, or that accompanied, the cancelled products” to read “Thereafter, registrants are prohibited from selling and distributing existing stocks of products containing vinclozolin identified in Table 1 of Unit II., except for export consistent with FIFRA section 17 or for proper disposal. Persons other than registrants may sell, distribute, or use existing stocks of products listed in Table 1 of Unit II. until such stocks are exhausted, provided that such sale, distribution, or use is consistent with the terms of the previously approved labeling on, or that accompanied, the canceled products.”

Authority: 7 U.S.C. 136 et seq.

Dated: September 15, 2014.
Richard P. Keigwin, Jr.,
Director, Pesticide Re-Evaluation Division, Office of Pesticide Programs.

[FR Doc. 2014-22583 Filed 9-23-14; 8:45 am]

BILLING CODE 6560-50-P